DEPARTMENT OF AGRICULTURE

Submission for OMB Review; Comment Request

May 15, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by June 20, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Housing Service

Title: Rural Community Development Initiative (RCDI).

OMB Control Number: 0575-0180.

Summary of Collection: Congress first authorized the Rural Community Development Initiative (RCDI) in 1999 with an appropriation of $6 million under the Rural Community Advancement Program (Pub. L. 106-78, which was amended by the Consolidated Appropriations Act, 2016 (Pub. L. 114-113)). The Community Facilities Division under the Rural Housing Service (RHS) administers this grant program. The intent of the RCDI grant program is to develop the capacity and ability of rural area recipients to undertake projects through a program of financial and technical assistance provided by qualified intermediary organizations. Intermediaries may be private or public (including tribal) organizations. Intermediaries are required to provide matching funds in an amount equal to the RCDI grant. Eligible recipients are nonprofit organizations, low-income rural communities, or federally recognized tribes.

Need and Use of the Information: RHS will collect information to determine applicant/grantee eligibility, project feasibility, and to ensure that grantees operate on a sound basis and use grant funds for authorized purposes. Failure to collect this information could result in improper use of Federal funds.

Description of Respondents: Not-for profit institutions; State, Local or Tribal Government.

Number of Respondents: 90.

Frequency of Responses: Reporting: Quarterly; Annually; Third party disclosure.

Total Burden Hours: 4,549.

Ruth Brown,
Departmental Information Collection Clearance Officer.

[FR Doc. 2018-10675 Filed 5-18-18; 8:45 am]

BILLING CODE 3410-XV-P